Presidential Determination No. 2006-16 of June 19, 2006

Eligibility of the Kingdom of Swaziland to Receive Defense Articles and Defense Services Under the Foreign Assistance Act and the Arms Export Control Act

Memorandum for the Secretary of State

Pursuant to section 503(a) of the Foreign Assistance Act of 1961, as amended (22 U.S.C. 2311), and section 3(a)(1) of the Arms Export Control Act, as amended (22 U.S.C. 2753), I hereby find that the furnishing of defense articles and defense services to the Kingdom of Swaziland will strengthen the security of the United States and promote world peace.

You are authorized and directed to transmit this determination, including the justification, to the Congress and to arrange for the publication of this determination in the Federal Register.

B

THE WHITE HOUSE,

Washington, June 19, 2006.

[FR Doc. 06-5717

Filed 6-23-06; 8:45 am]

Billing code 4710-10-P